DEPARTMENT OF COMMERCE

National Oceanic and Atmospheric Administration

50 CFR Part 622

[Docket No. 000913257-0257-01; I.D. 081800D]

RIN 0648-AO52

Fisheries of the Caribbean, Gulf of Mexico, and South Atlantic; Shrimp Fishery of the Gulf of Mexico; Prohibition of Trap Gear in the Royal Red Shrimp Fishery in the Gulf of Mexico

AGENCY: National Marine Fisheries Service (NMFS), National Oceanic and Atmospheric Administration (NOAA), Commerce.

ACTION: Emergency interim rule; extension of expiration date.

SUMMARY: An emergency interim rule that prohibits the use of trap gear in the royal red shrimp fishery within the exclusive economic zone (EEZ) of the Gulf of Mexico is in effect through March 18, 2001. NMFS extends that emergency interim rule for an additional 180 days. The intended effect is to prevent gear conflict and overfishing in the royal red shrimp fishery.

DATES: The expiration date for the emergency interim rule published at 65 FR 56500, September 19, 2000, is extended from March 18, 2001, through September 14, 2001.

ADDRESSES: Copies of documents supporting this action, such as the economic analysis and environmental assessment, may be obtained from, the Southeast Regional Office, NMFS, 9721 Executive Center Drive N., St. Petersburg, FL 33702, telephone: 727-570-5325; fax: 727-570-5583.

Comments on any ambiguity or unnecessary complexity arising from the language used in this emergency interim rule should be directed to Rod Dalton, Southeast Regional Office, NMFS, 9721 Executive Center Drive N., St. Petersburg, FL 33702.

FOR FURTHER INFORMATION CONTACT: Dr. Steve Branstetter, telephone: 727-570-5305, fax: 727-570-5583, e-mail: Steve.Branstetter@noaa.gov.

SUPPLEMENTARY INFORMATION: The shrimp fishery of the Gulf of Mexico is managed under the Fishery Management Plan for the Shrimp Fishery of the Gulf of Mexico (FMP). The FMP was prepared by the Gulf of Mexico Fishery Management Council (Council) and was approved and implemented by NMFS, under the authority of the Magnuson-Stevens Fishery Conservation and Management Act (Magnuson-Stevens Act), through regulations at 50 CFR part 622.

In response to a request from the Council, NMFS published an interim rule (65 FR 56500, September 19, 2000), under section 305(c)(1) of the Magnuson-Stevens Act, that prohibits the use of trap gear in the royal red shrimp fishery within the EEZ of the Gulf of Mexico. This action was, and remains, necessary to prevent gear conflict and overfishing in the royal red shrimp fishery.

Under section 305(c)(3)(B) of the Magnuson-Stevens Act, NMFS may extend the effectiveness of an emergency interim rule for one additional period of 180 days, provided the public has had an opportunity to comment on the rule and the Council is actively preparing an FMP amendment to address the emergency on a permanent basis. NMFS solicited comments on the initial emergency rule; no public comments were received. The Council recently adopted final measures for FMP Amendment 11 that would address gear conflicts in the royal red shrimp fishery and overfishing of the royal red shrimp resource. If approved and implemented by NMFS, those measures would replace this emergency interim rule. The effectiveness of the initial emergency interim rule is being extended because the potential for gear conflicts and overfishing remain, and action to address these issues through Amendment 11 cannot be taken by March 18, 2001.

Additional details concerning the basis for emergency action to prohibit the use of trap gear in the royal red shrimp fishery are contained in the preamble to the initial emergency interim rule and are not repeated here.

Classification

The Assistant Administrator for Fisheries, NOAA (AA), has determined that the extension of this emergency interim rule is necessary to prevent gear conflict and overfishing in the royal red shrimp fishery. The AA has also determined that this rule is consistent with the Magnuson-Stevens Act and other applicable laws.

This emergency interim rule has been determined to be not significant for purposes of E.O. 12866.

NMFS prepared an economic evaluation of the regulatory impacts associated with the emergency interim rule that is summarized as follows.

Currently, trap gear is not an authorized gear in the royal red shrimp fishery in the Gulf of Mexico. Trap gear is not on the list of authorized fishing gear for this fishery (see 50 CFR 600.725) and, therefore, is not allowed. However, consistent with the guidelines contained in 50 CFR 600.725, an individual fisherman may notify the Council of the intent to use a gear not on the list. Ninety days after such notification, the individual may use the gear unless regulatory action is taken to prohibit the use of such gear. The Council was notified on June 16, 2000, of an intent to use trap gear in the royal red fishery. This emergency interim rule is designed to maintain the status quo in the fishery until such time as the Council can prepare and submit to NMFS for review and approval FMP Amendment 11 that would prohibit the use of trap gear in the royal red shrimp fishery on a permanent basis. Because the emergency interim rule is designed to maintain the status quo situation where trap gear is not authorized in the royal red shrimp fishery, there are no economic consequences to the current participants in the fishery.

Copies of the economic evaluation are available (see ADDRESSES).

This extension of the interim rule will help to ensure avoidance of gear conflict and overfishing in the royal red shrimp fishery until a more permanent regulatory solution can be implemented. This extension of the emergency interim rule does not impose new or additional restrictions, rather, it maintains the status quo condition regarding allowable gear in the royal red shrimp fishery (i.e., trap gear is not allowed). Accordingly, under authority set forth at 5 U.S.C. 553(b)(B), the AA finds that these reasons constitute good cause to waive the requirement to provide prior notice and the opportunity for prior public comment, as such procedures would be contrary to the public interest. For these same reasons, under 5 U.S.C. 553(d)(3), the AA finds for good cause that a delay in the effective date of this emergency interim rule would be contrary to the public interest.

Because prior notice and an opportunity for public comment are not required to be provided for this emergency interim rule by 5 U.S.C. 553 or any other law, the analytical requirements of the Regulatory Flexibility Act, 5 U.S.C. 601 et seq., are inapplicable.

The President has directed Federal agencies to use plain language in their communications with the public, including regulations. To comply with this directive, we seek public comment on any ambiguity or unnecessary complexity arising from the language used in this emergency interim rule. Comments should be sent to the Southeast Regional Office (see ADDRESSES).

Dated: March 6, 2001.
William T. Hogarth
Acting Assistant Administrator for Fisheries, National Marine Fisheries Service .

[FR Doc. 01-6351 Filed 3-13-01; 8:45 am]

BILLING CODE 3510-22-S